DEPARTMENT OF TRANSPORTATION

Coast Guard

[USCG-2000-7053]

Chemical Transportation Advisory Committee

AGENCY: Coast Guard, DOT.

ACTION: Notice of meeting.

SUMMARY: The Chemical Transportation Advisory Committee (CTAC) will meet to discuss various issues relating to the marine transportation of hazardous materials in bulk. The meeting will be open to the public.

DATES: CTAC will meet on Wednesday, April 12, 2000, from 9:00 am to 3:30 pm. The meeting may close early if all business is finished. Written material and requests to make oral presentations should reach the Coast Guard on or before March 30, 2000. Requests to have a copy of your material distributed to each member of the committee or subcommittee should reach the Coast Guard on or before April 3, 2000.

ADDRESSES: CTAC will meet at Coast Guard Headquarters, room 2415, 2100 Second Street SW., Washington, DC. Send written material and requests to make oral presentations to Ms. Sara S. Ju, Commandant (G-MSO-3), U.S. Coast Guard Headquarters, 2100 Second, Street SW., Washington, DC 20593-0001. This notice is available on the Internet at http://dms.dot.gov.

FOR FURTHER INFORMATION CONTACT: Commander Robert F. Corbin, Executive Director of CTAC, or Ms. Sara S. Ju, Assistant to the Executive Director, telephone 202-267-1217, fax 202-267-4570.

SUPPLEMENTARY INFORMATION: Notice of this meeting is given under the Federal Advisory Committee Act, 5 U.S.C. App. 2.

Agenda of Meeting (Tentative)

Chemical Transportation Advisory Committee (CTAC)

The tentative agenda includes the following:

(1) Establishment of a new Subcommittee to identify and develop recommended response standards for marine chemical incidents.

(2) Reestablishment of the 46 CFR Part 151 Subcommittee to revalidate previous Subcommittee recommendations.

(3) New Prevention Through People Subcommittee initiatives.

(4) Information on the revised CHRIS manual.

(5) Roles and Responsibilities of a Marine Chemist.

(6) Status report on the Tank Barge Certificate of Inspection Pilot Program.

(7) Updates on Coast Guard regulatory projects and current International Maritime organization (IMO) initiatives relative to the chemical transportation industry.

Procedural

The meeting is open to the public. Please note that the meeting may close early if all business is finished. At the Chair's discretion, members of the public may make oral presentations during the meeting. If you would like to make an oral presentation at the meeting, please notify the Executive Director no later than March 30, 2000. Written material for distribution at the meeting should reach the Coast Guard no later than April 3, 2000. If you would like a copy of your material distributed to each member of the Committee in advance of the meeting, please submit 25 copies to the Executive Director no later than April 3, 2000.

Information on Services for Individuals With Disabilities

For information on facilities or services for individuals with disabilities or to request special assistance at the meetings, contact the Executive Director as soon as possible.

Dated: March 13, 2000.
Howard L. Hime,
Director of Standards (Acting), Marine Safety and Protection.

[FR Doc. 00-6704 Filed 3-16-00; 8:45 am]

BILLING CODE 4910-15-M